DEPARTMENT OF COMMERCE

International Trade Administration

[C-427-819, C-428-829, C-421-809, C-412-821]

Low Enriched Uranium from France, Germany, the Netherlands, and the United Kingdom: Extension of Time Limit for Preliminary Results of Countervailing Duty Administrative Reviews

AGENCY: Import Administration, International Trade Administration, Department of Commerce.

EFFECTIVE DATE: October 17, 2005.

FOR FURTHER INFORMATION CONTACT: Kristen Johnson or Darla Brown, AD/CVD Operations, Office 3, Import Administration, International Trade Administration, U.S. Department of Commerce, 14th Street and Constitution Avenue NW., Washington, DC 20230; telephone: (202) 482-4793 or (202) 482-2849, respectively.

SUPPLEMENTARY INFORMATION:

Background Information

On March 23, 2005, the U.S. Department of Commerce (“the Department”) published a notice of initiation of the administrative reviews of the countervailing duty orders on low enriched uranium from France, Germany, the Netherlands, and the United Kingdom covering the period of review January 1, 2004, through December 31, 2004. See Initiation of Antidumping and Countervailing Duty Administrative Reviews and Requests for Revocation in Part, 70 FR 14643 (March 23, 2005). The preliminary results are currently due no later than October 31, 2005.

Extension of Time Limit for Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of these reviews within the 245-day period is not practicable for the following reasons. These reviews are extraordinarily complicated because of the complex nature of the more than adequate remuneration program in the review covering France and the request for revocation in the reviews covering Germany, the Netherlands, and the United Kingdom. Given the complexity of these issues, which need to be thoroughly analyzed by the Department, and in accordance with section 751(a)(3)(A) of the Act, we are extending the time period for issuing the preliminary results of reviews by 120 days. Therefore, the preliminary results are now due no later than February 28, 2006. The final results continue to be due 120 days after publication of the preliminary results.

This notice is issued and published in accordance with sections 751(a)(3)(A) and 777(i)(1) of the Act.

Dated: October 11, 2005.
Gary Taverman,
Acting Deputy Assistant Secretary for Import Administration.

[FR Doc. E5-5713 Filed 10-14-05; 8:45 am]

BILLING CODE 3510-DS-S